DEPARTMENT OF COMMERCE

International Trade Administration

[A-570-062]

Cast Iron Soil Pipe Fittings From the People's Republic of China: Final Results of Antidumping Duty Administrative Review, 2018-2019; Correction

AGENCY: Enforcement and Compliance, International Trade Administration, Department of Commerce.

ACTION: Notice; correction.

SUMMARY: The Department of Commerce (Commerce) published a notice in the Federal Register of February 9, 2021, concerning the final results of the administrative review of cast iron soil pipe fittings (soil pipe fittings) from the People's Republic of China (China) for the period of review of February 20, 2018, through July 31, 2019. The notice contained an incorrect spelling of a company name.

FOR FURTHER INFORMATION CONTACT: Samantha Kinney, AD/CVD Operations, Office VIII, Enforcement and Compliance, International Trade Administration, Department of Commerce, 14th Street and Constitution Avenue NW, Washington, DC 20230; telephone: (202) 482-2285.

SUPPLEMENTARY INFORMATION:

Correction

In the Federal Register of February 9, 2021, in FR Doc. 2021-02597, on page 8763, in “The China-Wide Entity” section, correct the last company name to read “Yangcheng Country Huawang Universal.”

This correction to the Final Results is published in accordance with sections 751(a)(1) and 777(i)(1) of the Tariff Act of 1930, as amended.

Dated: March 10, 2021.
Christian Marsh,
Acting Assistant Secretary for Enforcement and Compliance.

[FR Doc. 2021-05399 Filed 3-15-21; 8:45 am]

BILLING CODE 3510-DS-P